DEPARTMENT OF EDUCATION

[Docket No.: ED-2015-ICCD-0106]

Agency Information Collection Activities; Comment Request; Study of Enhanced College Advising in Upward Bound

AGENCY: IES, Department of Education (ED).

ACTION: Notice.

SUMMARY: In accordance with the Paperwork Reduction Act of 1995 (44 U.S.C. chapter 3501 et seq.), ED is proposing a revision of an existing information collection.

DATES: Interested persons are invited to submit comments on or before October 26, 2015.

ADDRESSES: Comments submitted in response to this notice should be submitted electronically through the Federal eRulemaking Portal at http://www.regulations.gov by selecting Docket ID number ED-2015-ICCD-0106 or via postal mail, commercial delivery, or hand delivery. If the regulations.gov site is not available to the public for any reason, ED will temporarily accept comments at ICDocketMgr@ed.gov. Please note that comments submitted by fax or email and those submitted after the comment period will not be accepted; ED will ONLY accept comments during the comment period in this mailbox when the regulations.gov site is not available. Written requests for information or comments submitted by postal mail or delivery should be addressed to the Director of the Information Collection Clearance Division, U.S. Department of Education, 400 Maryland Avenue SW., LBJ, Mailstop L-OM-2-2E319, Room 2E103, Washington, DC 20202.

FOR FURTHER INFORMATION CONTACT: For specific questions related to collection activities, please contact Marsha Silverberg, (202)208-7178.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Study of Enhanced College Advising in Upward Bound.

OMB Control Number: 1850-0912.

Type of Review: A revision of an existing information collection.

Respondents/Affected Public: Individuals or Households.

Total Estimated Number of Annual Responses: 2,836.

Total Estimated Number of Annual Burden Hours: 885.

Abstract: The Study of Enhanced College Advising in Upward Bound will test the effectiveness of providing Upward Bound projects with a professional development package and tools to provide semi-customized college advising to students participating in Upward Bound. Upward Bound projects were invited to volunteer for the demonstration, and approximately 200 projects that volunteered for the demonstration are included. Volunteer projects will be randomly assigned so that half receive the staff training, materials, tools, and resources in the first wave (spring 2015), and the other half will receive the staff training, materials, tools, and resources in the second wave (summer and fall 2016). The study will follow students who participate in both groups of projects as 11th graders in the 2014-2015 school year. The study will examine the impact of the demonstration on key outcomes including college application behavior, college acceptance and matriculation, and receipt of financial aid. The first of two ICRs for the study requested approval for the overall evaluation design, to collect 11th grade student rosters at each participating project and to administer the student baseline survey; the first ICR was approved on 8/8/2014. This is the second of two ICRs and requests approval for the remaining data collection activities, including a project survey, a follow-up student survey, and administrative records. Three reports will be produced, with one (expected 2017) reporting on the outcomes measures prior to high school graduation; a second (expected 2018) reporting on the results regarding actual college enrollment, college selectivity and use of Federal financial aid; and a third (expected 2020) reporting results regarding college persistence. The analyses will be both descriptive (distributions and means) and causal (using standard regression analyses to estimate impacts).

Dated: August 20, 2015.
Kate Mullan,
Acting Director, Information Collection Clearance Division, Privacy, Information and Records Management Services, Office of Management.

[FR Doc. 2015-20964 Filed 8-24-15; 8:45 am]

BILLING CODE 4000-01-P